DEPARTMENT OF HOMELAND SECURITY

U.S. Customs and Border Protection

Accreditation of Altol Chemical and Environmental Laboratory (Ponce, PR) as a Commercial Laboratory

AGENCY: U.S. Customs and Border Protection, Department of Homeland Security.

ACTION: Notice of accreditation of Altol Chemical and Environmental Laboratory (Ponce, PR), as a commercial laboratory.

SUMMARY: Notice is hereby given, pursuant to CBP regulations, that Altol Chemical and Environmental Laboratory (Ponce, PR), has been accredited to test petroleum and certain petroleum products for customs purposes for the next three years as of September 5, 2024.

DATES: Altol Chemical and Environmental Laboratory (Ponce, PR) was accredited as a commercial laboratory as of September 5, 2024. The next triennial inspection date will be scheduled for September 2027.

FOR FURTHER INFORMATION CONTACT: Mr. Robert P. Munivez, Laboratories and Scientific Services, U.S. Customs and Border Protection, 4150 Interwood South Parkway, Houston, TX 77032, tel. 281-560-2937.

SUPPLEMENTARY INFORMATION: Notice is hereby given pursuant to 19 CFR 151.12, that Altol Chemical and Environmental Laboratory, 228 Sabanetas Industrial Park, Ponce, PR 00716, has been accredited to test petroleum and certain petroleum products for customs purposes, in accordance with the provisions of 19 CFR 151.12.

Altol Chemical and Environmental Laboratory (Ponce, PR) is accredited for the following laboratory analysis procedures and methods for petroleum and certain petroleum products set forth by the U.S. Customs and Border Protection Laboratory Methods (CBPL) and American Society for Testing and Materials (ASTM):

CBPL No. | ASTM | Title
27-01 | D287 | Standard Test Method for API Gravity of Crude Petroleum and Petroleum Products (Hydrometer Method).
27-02 | D1298 | Standard Test Method for Density, Relative Density, or API Gravity of Crude Petroleum and Liquid Petroleum Products by Hydrometer Method.
27-11 | D445 | Standard Test Method for Kinematic Viscosity of Transparent and Opaque Liquids (and Calculation of Dynamic Viscosity).
27-13 | D4294 | Standard Test Method for Sulfur in Petroleum and Petroleum Products by Energy-Dispersive X-ray Fluorescence Spectrometry.
27-48 | D4052 | Standard Test Method for Density, Relative Density, and API Gravity of Liquids by Digital Density Meter.

Anyone wishing to employ this entity to conduct laboratory analyses should request and receive written assurances from the entity that it is accredited by the U.S. Customs and Border Protection to conduct the specific test requested. Alternatively, inquiries regarding the specific test this entity is accredited to perform may be directed to the U.S. Customs and Border Protection by calling (202) 344-1060. The inquiry may also be sent to CBPGaugersLabs@cbp.dhs.gov. Please reference the website listed below for a complete listing of CBP approved gaugers and accredited laboratories. http://www.cbp.gov/about/labs-scientific/commercial-gaugers-and-laboratories.

Aine M. Ramirez,
Laboratory Director, Houston, Laboratories and Scientific Services.

[FR Doc. 2025-23898 Filed 12-23-25; 8:45 am]

BILLING CODE 9111-14-P